DEPARTMENT OF JUSTICE

Notice of Lodging of Proposed Consent Decree Under the Clean Water Act

On January 13, 2017, the Department of Justice lodged a Consent Decree with the United States District Court for the District of Columbia to resolve a claim under Section 309(b) and (d) of the Clean Water Act, 33 U.S.C. 1319(b) and (d) filed against Potomac Electric Power Company (Pepco) in United States et al. v. Pepco, Civil Action No. 1:15-cv-01845, in which the United States alleged violations of the effluent limitations for metals and total suspended solids in Pepco's National Pollutant Discharge Elimination System (“NPDES”) permit for Pepco's Benning Street facility. The proposed consent decree obligates Pepco to put into place best management practices to address its stormwater discharges, including stormwater control devices to be inserted into drains and inlets; regular inspections and housekeeping; maintenance; training, and similar measures. Pepco also will design and install in-pipe treatment systems in targeted areas, to be put into place no later than December 31, 2017. Under the consent decree, Pepco also will pay a civil penalty of $1.6 million, and design and perform a mitigation project to eliminate discharges from Outfall 101. If Pepco fails to implement the mitigation project, it must pay a stipulated penalty of $500,000.

The publication of this notice opens a period for public comment on the Consent Decree. Comments should be addressed to the Assistant Attorney General, Environment and Natural Resources Division, and should refer to United States et al. v. Pepco, Civil Action No. 1:15-cv-01845, DOJ number 90-5-1-1-11336. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $ 16.00 (25 cents per page reproduction cost) payable to the United States Treasury. For a paper copy without the exhibits and signature pages, the cost is $15.00.

Robert Brook,
Assistant Section Chief, Environmental Enforcement Section, Environment and Natural Resources Division.

[FR Doc. 2017-01255 Filed 1-19-17; 8:45 am]

BILLING CODE 4410-15-P